DEPARTMENT OF HEALTH AND HUMAN SERVICES

National Institutes of Health

National Center for Advancing Translational Sciences; Notice of Meeting

Pursuant to section 10(d) of the Federal Advisory Committee Act, as amended, notice is hereby given of a meeting of the National Center for Advancing Translational Sciences Advisory Council.

The meeting will be open to the public as indicated below, with attendance limited to space available. Individuals who plan to attend and need special assistance, such as sign language interpretation or other reasonable accommodations, should notify the Contact Person listed below in advance of the meeting.

The meeting will be closed to the public in accordance with the provisions set forth in sections 552b(c)(4) and 552b(c)(6), Title 5 U.S.C., as amended. The grant applications and/or contract proposals and the discussions could disclose confidential trade secrets or commercial property such as patentable material, and personal information concerning individuals associated with the grant applications and/or contract proposals, the disclosure of which would constitute a clearly unwarranted invasion of personal privacy.

Name of Committee: National Center for Advancing Translational Sciences Advisory Council.

Date: September 19, 2019.

Closed: 9:00 a.m. to 10:30 a.m.

Agenda: To discuss internal operations, review and evaluate grant applications.

Place: Porter Neuroscience Research Center, National Institutes of Health, Building 35A, Conference Room 620/630, 35 Convent Drive, Bethesda, MD 20892.

Open: 11:00 a.m. to 4:30 p.m.

Agenda: Report from the Institute Director and other staff.

Place: Porter Neuroscience Research Center, Building 35A, Conference Room 620/630, 35 Convent Drive, Bethesda, MD 20892.

Time: 9:00 a.m. to 4:30 p.m.

Agenda: To discuss internal operations, review and evaluate grant applications.

Place: Porter Neuroscience Research Center, National Institutes of Health, Building 35A, Conference Room 620/630, 35 Convent Drive, Bethesda, MD 20892.

Contact Person: Anna L. Ramsey-Ewing, Ph.D., Executive Secretary, National Center for Advancing Translational Sciences, 1 Democracy Plaza, Room 1072, Bethesda, MD 20892, 301-435-0809, anna.ramseyewing@nih.gov.

(Catalogue of Federal Domestic Assistance Program Nos. 93.859, Pharmacology, Physiology, and Biological Chemistry Research; 93.350, B—Cooperative Agreements; 93.859, Biomedical Research and Research Training, National Institutes of Health, HHS)

Dated: June 21, 2019.
Natasha M. Copeland,
Program Analyst, Office of Federal Advisory Committee Policy.

[FR Doc. 2019-13678 Filed 6-26-19; 8:45 am]

BILLING CODE 4140-01-P